DEPARTMENT OF COMMERCE

National Oceanic and Atmospheric Administration

[I.D. 082503F]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Committee, Highly Migratory Species Committee, Information and Education Committee and a joint meeting of its Executive Committee and Finance Committee. In addition, a public comment period will be held regarding Snapper Grouper Amendment 13A addressing the Oculina Experimental Closed Area. There will also be a full Council Session.

DATES: The meetings will be held Tuesday, September 16, 2003 through Thursday, September 18, 2003. See SUPPLEMENTARY INFORMATION for specific dates and times.

ADDRESSES: The meetings will be held at Pawleys Plantation, 70 Tanglewood Drive, Pawleys Island, SC, 29585; telephone: (1-800) 267-9959 or (843) 237-6100.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; email: kim.iverson@safmc.net.

SUPPLEMENTARY INFORMATION:

Meeting Dates

1. Snapper Grouper Committee Meeting: September 16, 2003, 8:30 a.m.- 5 p.m. and September 17 from 8:30 a.m. until 10:30 a.m.

The Snapper Grouper Committee will receive a report on the Southeastern Data, Assessment and Review (SEDAR) process for yellowtail snapper and goliath grouper, and an update on the overall SEDAR process. The Committee will review the final version of Amendment 13A to the Snapper Grouper Fishery Management Plan (FMP) and develop recommendations for Council. In addition, the Committee will review a draft of Amendment 13B to the Snapper Grouper FMP and develop recommendations for staff. The Committee will also receive a report on the status of Amendment 14 to the Snapper Grouper FMP addressing the use of marine protected areas as a management tool.

2. Highly Migratory Species Committee and SSC Meeting: September 17, 2003, 10:30 a.m. until 12 noon.

The Highly Migratory Species Committee will receive a presentation from NOAA Fisheries on the proposed rule for Atlantic sharks and Amendment 1 to the Highly Migratory FMP and provide comment.

3. Information & Education Committee: September 17, 2003, 1:30 p.m.- 3:30 p.m.

The Committee will review and develop recommendations regarding options for the Council's web site hosting and design. The Committee will also review and comment on a draft publication about the Council and discuss outreach/education plans for the Oculina Experimental Closed Area and Habitat Area of Particular Concern off the coast of Florida.

4. Joint Executive Committee and Finance Committee Meeting: September 17, 2003, 3:30 p.m. until 5:30 p.m.

The Executive Committee will meet jointly with the Finance Committee and receive an update on the Calendar Year (CY) 2003 budget and the status of the Fiscal Year 2004 Congressional budget. The Committees will develop recommendations for CY 2004 Fishery Management Plan, Plan Amendment and Framework timelines as well as approve the CY 2004 budget.

5. Council Session: September 18, 2003, 8:30 a.m. 12 noon and September 19, 2003 from 8:30 a.m. until 12 noon.

September 18, 2003

From 8:30 a.m. - 8:45 a.m., the Council will have a Call to Order, introductions and roll call, adoption of the agenda, and approval of the June 2003 meeting minutes.

From 8:45 a.m. - 9:15 a.m., the Council will conduct an election for Chairman and Vice-Chairman.

From 9:15 a.m. - 10:15 a.m., the Council will hear a report from the Snapper Grouper Committee. Beginning at 9:15 a.m., a public comment period will be held for Snapper Grouper Amendment 13A. Following public comment, the Council will approve Amendment 13A for submission to the Secretary of Commerce.

From 10:15 a.m. - 10:45 a.m., the Council will hear a report from the Highly Migratory Species Committee and provide comment of the proposed rule for Atlantic sharks and Amendment 1 to the Highly Migratory Species FMP.

From 10:45 a.m. - 12 noon, the Council will receive a briefing on litigation and other legal issues affecting the Council (CLOSED SESSION).

September 19, 2003

From 8:30 a.m. - 9 a.m., the Council will receive a report from the Information and Education Committee.

From 9 a.m. - 9:30 a.m., the Council will receive a joint report from the Executive and Finance Committees and take action to approve the 2004 Activities Schedule and timelines. The Council will also approve the 2004 Administrative Budget.

From 9:30 a.m. - 10 a.m., the Council will receive an update on the status of the Federal Fisheries Managers Conference.

From 10 a.m. - 11 a.m., the Council will receive NOAA Fisheries status reports on the Sargassum FMP final rule, the Dolphin Wahoo FMP and implementation of the Atlantic Coast Cooperative Statistics Program (ACCSP) in the Southeast Region. NOAA Fisheries will also give status reports on landings for Atlantic king mackerel, Gulf king mackerel (eastern zone), Atlantic Spanish mackerel, snowy grouper, golden tilefish, wreckfish, greater amberjack and south Atlantic octocorals.

From 11 a.m. - 12 noon, the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to the Council office (see ADDRESSES) by September 11, 2003.

Dated: August 25, 2003.
Richard W. Surdi,
Acting Director, Office of Sustainable Fisheries, National Marine Fisheries Service.

[FR Doc. 03-22187 Filed 8-28-03; 8:45 am]

BILLING CODE 3510-22-S